FEDERAL RETIREMENT THRIFT INVESTMENT BOARD

Notice of Board Meeting

DATES: December 18, 2025, at 11:00 a.m. ET.

ADDRESSES: Telephonic. Dial-in (listen only) information: Number: 1-202-599-1426, Code: 156 683 720#; or via web: https://www.frtib.gov/.

FOR FURTHER INFORMATION CONTACT: James Kaplan, Director, Office of External Affairs, (202) 864-7150.

SUPPLEMENTARY INFORMATION:

Board Meeting Agenda

Open Session

1. Approval of the November 20, 2025, Board Meeting Minutes

2. Monthly Reports

(a) Participant Report

(b) Investment Report

(c) Legislative Report

3. Quarterly Reports

(d) Vendor Risk Management

4. Enterprise Risk Management

5. 2026 Board Calendar Review

Closed Session

6. Information covered under 5 U.S.C. 552b(c)(6).

Authority: 5 U.S.C. 552b(e)(1).

Dated: December 3, 2025.
Dharmesh Vashee,
General Counsel, Federal Retirement Thrift Investment Board.

[FR Doc. 2025-22151 Filed 12-5-25; 8:45 am]

BILLING CODE P